NUCLEAR REGULATORY COMMISSION

[Docket No. 50-440]

Firstenergy Corporation, Perry Nuclear Power Plant; Environmental Assessment and Finding of No Significant Impact

The U.S. Nuclear Regulatory Commission (NRC) is considering issuance of a one-time schedular exemption from Title 10 of the Code of Federal Regulations (10 CFR) part 50, Section 50.71(e)(4) for Facility Operating License No. NPF-58, issued to FirstEnergy Corporation (the licensee), for operation of the Perry Nuclear Power Plant, located in Lake County, Ohio. Therefore, pursuant to 10 CFR 51.21, the NRC is issuing this environmental assessment and finding of no significant impact.

Environmental Assessment

Identification of the Proposed Action

The proposed action would allow the licensee to extend the time for submitting the periodic update to the Final Safety Analysis Report (FSAR) by 120 days from September 10, 2003, to January 8, 2004. Specifically, 10 CFR part 50.71(e)(4) requires that licensees provide the NRC with updates to the FSAR annually or 6 months after each refueling outage provided the interval between successive updates does not exceed 24 months. The revisions must reflect changes up to 6 months prior to the date of filing. This regulation would require the submittal of the Perry Nuclear Power Plant (PNPP) FSAR update by September 10, 2003.

The proposed action is in accordance with the licensee's application for exemption dated August 8, 2003.

The Need for the Proposed Action

While preparing the scheduled submittal, a computer failure occurred affecting the PNPP electronic data management system which resulted in the loss of over 11,000 electronic documents. Updates to the FSAR that were being prepared were among the documents lost. Due to the need to reconstruct the updated FSAR information that was lost, additional time is needed to complete the submittal. The requirement to reflect changes up to 6 months prior to the date of filing would still apply. The exemption is requested to allow adequate time to complete the submittal.

Environmental Impacts of the Proposed Action

The NRC has completed its evaluation of the proposed action and concludes that the exemption is administrative and would not affect any plant equipment, operation, or procedures. The FSAR contains the analysis, assumptions, and technical details of the facility design and operating parameters. Until the FSAR is updated, the recent changes are documented in the licensee's written evaluations of changes prepared pursuant to 10 CFR 50.59, and in the Commission's Safety Evaluations for actions requiring prior approval. A delay in submitting the FSAR update will not change the plant design or the manner in which it is operated.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for Perry Nuclear Power Plant, dated April 1974.

Agencies and Persons Consulted

On September 26, 2003, the staff consulted with the Ohio State official, Carol O'Claire of the Ohio Emergency Management Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated August 8, 2003. Documents may be examined, and/or copied for a fee, at the NRC's Public Document Room (PDR), located at One White Flint North, Public File Area O1F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 30th day of September.
For the Nuclear Regulatory Commission.
L. Raghavan,
Chief, Section 1, Project Directorate III-1, Division of Licensing Project Management, Office of Nuclear Reactor Regulation.

[FR Doc. 03-26279 Filed 10-16-03; 8:45 am]

BILLING CODE 7590-01-P